DEPARTMENT OF HOMELAND SECURITY

Coast Guard

[Docket No. USCG-2009-1100]

Certificate of Alternative Compliance for the High Speed Ferry SUSITNA

AGENCY: Coast Guard, DHS.

ACTION: Notice.

SUMMARY: The Coast Guard announces that a Certificate of Alternative Compliance was issued for the high speed ferry SUSITNA as required by 33 U.S.C. 1605(c) and 33 CFR 81.18.

DATES: The Certificate of Alternative Compliance was issued on December 18, 2009.

ADDRESSES: The docket for this notice is available for inspection or copying at the Docket Management Facility (M-30), U.S. Department of Transportation, West Building Ground Floor, Room W12-140, 1200 New Jersey Avenue, SE., Washington, DC 20590, between 9 a.m. and 5 p.m., Monday through Friday, except Federal holidays. You may also find this docket on the Internet by going to http://www.regulations.gov, inserting USCG-2009-1100 in the “Keyword” box, and then clicking “Search.”

FOR FURTHER INFORMATION CONTACT: If you have questions on this notice, call LT Robert Fields, District Seventeen, Prevention Branch, U.S. Coast Guard, telephone 907-463-2812. If you have questions on viewing or submitting material to the docket, call Renee V. Wright, Program Manager, Docket Operations, telephone 202-366-9826.

SUPPLEMENTARY INFORMATION:

Background and Purpose

A Certificate of Alternative Compliance, as allowed under Title 33 of the Code of Federal Regulations, Parts 81 and 89, has been issued for the high speed ferry SUSITNA, O.N. 1189367. Full compliance with 72 COLREGS and the Inland Rules Act would hinder the vessel's ability to operate as designed. The forward masthead light may be located 18′-4″ above the hull. Placing the forward masthead light at the height as required by Annex I, paragraph 2(a) of the 72 COLREGS and Annex I, Section 84.03(a) of the Inland Rules Act would result in a masthead light location that would interfere with the line of sight of the pilot house. In addition, the horizontal distance between the forward and aft masthead lights may be 58′-5″. Placing the aft masthead light at the horizontal distance from the forward masthead light as required by Annex I, paragraph 3(a) of the 72 COLREGS would result in an aft mast being placed on the center barge deck of the ferry which is designed to move vertically.

The Certificate of Alternative Compliance allows for the vertical placement of the forward masthead light to deviate from requirements set forth in Annex I, paragraph 2(a) of 72 COLREGS and Annex I, Section 84.03(a) of the Inland Rules Act. In addition, this Certificate of Alternative Compliance allows for the horizontal separation of the forward and aft masthead lights to deviate from the requirements of Annex I, paragraph 3(a) of 72 COLREGS.

This notice is issued under authority of 33 U.S.C. 1605(c), and 33 CFR 81.18.

Dated: December 18, 2009.
J.S. Kenyon,
Captain, U.S. Coast Guard, Chief, Prevention Division, by Direction of the Commander, Seventeenth Coast Guard District.

[FR Doc. E9-31227 Filed 1-4-10; 8:45 am]

BILLING CODE 9110-04-P